DEPARTMENT OF TRANSPORTATION

Federal Aviation Administration

14 CFR Part 39

[Docket No. FAA-2015-0496; Directorate Identifier 2014-NM-101-AD]

RIN 2120-AA64

Airworthiness Directives; The Boeing Company Airplanes

AGENCY: Federal Aviation Administration (FAA), DOT.

ACTION: Notice of proposed rulemaking (NPRM).

SUMMARY: We propose to supersede Airworthiness Directive (AD) 2005-18-18, which applies to certain The Boeing Company Model 757 airplanes. AD 2005-18-18 currently requires inspections of certain wire bundles in the left and right engine-to-wing aft fairings for discrepancies; installation of back-to-back p-clamps between the wire and hydraulic supply tube at the aft end of the right-hand strut only; and associated re-routing of the wire bundles, if necessary. Since we issued AD 2005-18-18, we have determined that the service information referenced in AD 2005-18-18 did not adequately address fuel shutoff valve (FSV) wires at the aft end of the struts. This proposed AD would add an installation of spiral cable wrap on FSV wires at the aft end of the strut, for both left and right engines, and related investigative and corrective actions. We are proposing this AD to prevent chafing between the wire bundle and the structure of the aft fairing, which could result in electrical arcing and subsequent ignition of flammable vapors and possible uncontrollable fire.

DATES: We must receive comments on this proposed AD by May 11, 2015.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: Deliver to Mail address above between 9 a.m. and 5 p.m., Monday through Friday, except Federal holidays.

For service information identified in this proposed AD, contact Boeing Commercial Airplanes, Attention: Data & Services Management, P.O. Box 3707, MC 2H-65, Seattle, WA 98124-2207; telephone 206-544-5000, extension 1; fax 206-766-5680; Internet https://www.myboeingfleet.com. You may view this referenced service information at the FAA, Transport Airplane Directorate, 1601 Lind Avenue SW., Renton, WA 98057. For information on the availability of this material at the FAA, call 425-227-1221. It is also available on the Internet at http://www.regulations.gov by searching for and locating Docket No. FAA-2015-0496.

Examining the AD Docket

You may examine the AD docket on the Internet at http://www.regulations.gov by searching for and locating Docket No. FAA-2015-0496; or in person at the Docket Management Facility between 9 a.m. and 5 p.m., Monday through Friday, except Federal holidays. The AD docket contains this proposed AD, the regulatory evaluation, any comments received, and other information. The street address for the Docket Office (phone: 800-647-5527) is in the ADDRESSES section. Comments will be available in the AD docket shortly after receipt.

FOR FURTHER INFORMATION CONTACT: Christopher Baker, Aerospace Engineer, Propulsion Branch, ANM-140S, FAA, Seattle Aircraft Certification Office (ACO), 1601 Lind Avenue SW., Renton, WA 98057-3356; phone: 425-917-6498; fax: 425-917-6590; email: christopher.r.baker@faa.gov.

SUPPLEMENTARY INFORMATION:

Comments Invited

We invite you to send any written relevant data, views, or arguments about this proposed AD. Send your comments to an address listed under the ADDRESSES section. Include “Docket No. FAA-2015-0496; Directorate Identifier 2014-NM-101-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

On August 31, 2005, we issued AD 2005-18-18, Amendment 39-14258 (70 FR 53554, September 9, 2005), for certain The Boeing Company Model 757-200, -200PF, -200CB, and -300 series airplanes. AD 2005-18-18 requires inspections of certain wire bundles in the left and right engine-to-wing aft fairings for discrepancies; installation of back-to-back p-clamps between the wire and hydraulic supply tube at the aft end of the right-hand strut only; and associated re-routing of the wire bundles, if necessary. AD 2005-18-18 resulted from a report indicating that a circuit breaker for the fuel shutoff valve tripped due to a wire that chafed against the structure in the flammable leakage zone of the aft fairing, causing a short circuit. We issued AD 2005-18-18 to prevent chafing between the wire bundle and the structure of the aft fairing, which could result in electrical arcing and subsequent ignition of flammable vapors and possible uncontrollable fire.

Actions Since AD 2005-18-18, Amendment 39-14258 (70 FR 53554, September 9, 2005), Was Issued

Since we issued AD 2005-18-18, Amendment 39-14258 (70 FR 53554, September 9, 2005), we received a report that the service information referenced in AD 2005-18-18 did not adequately address FSV wires at the aft end of the strut, for both left and right engine struts. The proposed installation of tetrafluoroethylene spiral cable wrap on the FSV wires at the aft end of the strut would provide additional wiring protection.

Related Service Information Under 1 CFR Part 51

We reviewed Boeing Alert Service Bulletins 757-28A0073 and 757-28A0074, both Revision 2, both dated June 4, 2009. The service information describes procedures for inspecting certain wire bundles in the left and right engine-to-wing aft fairings for discrepancies; installing back-to-back p-clamps between the wire and hydraulic supply tube at the aft end of the right-hand strut only; associated re-routing of the wire bundles, if necessary; and installing spiral cable wrap on FSV wires on the aft ends of the left and right engine struts, and related investigative and corrective actions. Refer to this service information for information on the procedures and compliance times. This service information is reasonably available; see ADDRESSES for ways to access this service information.

FAA's Determination

We are proposing this AD because we evaluated all the relevant information and determined the unsafe condition described previously is likely to exist or develop in other products of the same type design.

Proposed AD Requirements

This proposed AD would retain all requirements of AD 2005-18-18, Amendment 39-14258 (70 FR 53554, September 9, 2005). This proposed AD would add a requirement to install spiral cable wrap on FSV wires at the aft end of the strut, for both left and right engines, and related investigative and corrective actions. This proposed AD would require accomplishing the actions specified in the service information identified previously.

The phrase “related investigative actions” is used in this proposed AD. “Related investigative actions” are follow-on actions that (1) are related to the primary action, and (2) further investigate the nature of any condition found. Related investigative actions in an AD could include, for example, inspections.

The phrase “corrective actions” is used in this proposed AD. “Corrective actions” are actions that correct or address any condition found. Corrective actions in an AD could include, for example, repairs.

Costs of Compliance

We estimate that this proposed AD affects 346 airplanes of U.S. registry.

We estimate the following costs to comply with this proposed AD:

Estimated Costs
Action | Labor cost | Parts cost | Cost per product | Cost on U.S. operators
Inspection of certain wire bundles, and p-clamp installation [retained actions from AD 2005-18-18, Amendment 39-14258 (70 FR 53554, September 9, 2005)] | Between 16 and 44 work-hours × $85 per hour = Between $1,360 and $3,740 | $600 | Between $1,960 and $4,340 | Between $678,160 and $1,501,640.
Installation of spiral cable wrap [new proposed action] | 10 work-hours × $85 per hour = $850 | $10 | $860 | $297,560.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2005-18-18, Amendment 39-14258 (70 FR 53554, September 9, 2005), and adding the following new AD:

The Boeing Company: Docket No. FAA-2015-0496; Directorate Identifier 2014-NM-101-AD.

(a) Comments Due Date

The FAA must receive comments on this AD action by May 11, 2015.

(b) Affected ADs

This AD replaces AD 2005-18-18, Amendment 39-14258 (70 FR 53554, September 9, 2005).

(c) Applicability

This AD applies to The Boeing Company Model 757-200, -200PF, -200CB, and -300 series airplanes; certificated in any category; equipped with Rolls-Royce engines; as identified in Boeing Alert Service Bulletins 757-28A0073 and 757-28A0074, both Revision 2, both dated June 4, 2009.

(d) Subject

Air Transport Association (ATA) of America Code 28, Fuel.

(e) Unsafe Condition

This AD was prompted by a report that the service information referenced in AD 2005-18-18, Amendment 39-14258 (70 FR 53554, September 9, 2005), did not adequately address fuel shutoff valve (FSV) wires at the aft end of the strut, for both left and right engine struts. We are issuing this AD to prevent chafing between the wire bundle and the structure of the aft fairing, which could result in electrical arcing and subsequent ignition of flammable vapors and possible uncontrollable fire.

(f) Compliance

Comply with this AD within the compliance times specified, unless already done.

(g) Retained One-Time Inspections/Related Investigative and Corrective Actions

This paragraph restates the requirements of paragraph (f) of AD 2005-18-18, Amendment 39-14258 (70 FR 53554, September 9, 2005), with new service information. Within 60 months after October 14, 2005 (the effective date of AD 2005-18-18), do the actions required by paragraphs (g)(1) and (g)(2) of this AD.

(1) Accomplish the detailed inspections for discrepancies of the wire bundles in the left and right engine-to-wing aft fairings, and applicable and related investigative and corrective actions if necessary, as applicable, by doing all the actions specified in the Accomplishment Instructions of the applicable service bulletins listed in Table 1 to paragraph (g)(1) of this AD. As of the effective date of this AD, use only Boeing Alert Service Bulletin 757-28A0073 or 757-28A0074, both Revision 2, both dated June 4, 2009, as applicable. Accomplish any related investigative and corrective actions before further flight, in accordance with the applicable service bulletin. For the purposes of this AD, a detailed inspection is: “An intensive examination of a specific item, installation, or assembly to detect damage, failure, or irregularity. Available lighting is normally supplemented with a direct source of good lighting at an intensity deemed appropriate. Inspection aids such as mirror, magnifying lenses, etc., may be necessary. Surface cleaning and elaborate procedures may be required.”

Table 1 to Paragraph (g)(1) of This AD—Airplane Models and Service Bulletins
Boeing airplanes | Boeing alert service bulletin | Revision level | Date
Model 757-200, -200CB, and -200PF series airplanes | 757-28A0073 | Original | November 20, 2003.
Model 757-200, -200CB, and -200PF series airplanes | 757-28A0073 | 1 | February 24, 2005.
Model 757-200, -200CB, and -200PF series airplanes | 757-28A0073 | 2 | June 4, 2009.
Model 757-300 series airplanes | 757-28A0074 | Original | November 20, 2003.
Model 757-300 series airplanes | 757-28A0074 | 1 | February 24, 2005.
Model 757-300 series airplanes | 757-28A0074 | 2 | June 4, 2009.

(2) Install back-to-back p-clamps between the wire and hydraulic supply tube at the aft end of the right-hand strut only; and re-route the wire bundles, if necessary; by doing all the applicable actions specified in the Accomplishment Instructions of the applicable service information identified in paragraphs (g)(2)(i) through (g)(2)(iv) of this AD. As of the effective date of this AD, use only the service information identified in paragraphs (g)(2)(ii) and (g)(2)(iv) of this AD, as applicable.

(i) Boeing Alert Service Bulletin 757-28A0073, Revision 1, dated February 24, 2005.

(ii) Boeing Alert Service Bulletin 757-28A0073, Revision 2, dated June 4, 2009.

(iii) Boeing Alert Service Bulletin 757-28A0074, Revision 1, dated February 24, 2005.

(iv) Boeing Alert Service Bulletin 757-28A0074, Revision 2, dated June 4, 2009.

(h) New Spiral Cable Wrap Installation

Within 60 months after the effective date of this AD, install spiral cable wrap on FSV wires at the aft end of the strut, for both left and right engines, and do all applicable related investigative and corrective actions, in accordance with the Accomplishment Instructions of Boeing Alert Service Bulletin 757-28A0073 (for Model 757-200, -200CB, and -200PF series airplanes) or 757-28A0074 (for Model 757-300 series airplanes), both Revision 2, both dated June 4, 2009. Do the related investigative and corrective actions before further flight.

(i) Alternative Methods of Compliance (AMOCs)

(1) The Manager, Seattle Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in paragraph (j)(1) of this AD. Information may be emailed to: 9-ANM-Seattle-ACO-AMOC-Requests@faa.gov.

(2) Before using any approved AMOC, notify your appropriate principal inspector, or lacking a principal inspector, the manager of the local flight standards district office/certificate holding district office.

(3) AMOCs approved for AD 2005-18-18, Amendment 39-14258 (70 FR 53554, September 9, 2005), are approved as AMOCs for paragraph (g) of this AD.

(j) Related Information

(1) For more information about this AD, contact Christopher Baker, Aerospace Engineer, Propulsion Branch, ANM-140S, FAA, Seattle ACO, 1601 Lind Avenue SW., Renton, WA 98057-3356; phone: 425-917-6498; fax: 425-917-6590; email: christopher.r.baker@faa.gov.

(2) For service information identified in this AD, contact Boeing Commercial Airplanes, Attention: Data & Services Management, P.O. Box 3707, MC 2H-65, Seattle, WA 98124-2207; telephone 206-544-5000, extension 1; fax 206-766-5680; Internet https://www.myboeingfleet.com. You may view this referenced service information at the FAA, Transport Airplane Directorate, 1601 Lind Ave. SW., Renton WA. For information on the availability of this material at the FAA, call 425-227-1221.

Issued in Renton, Washington, on March 12, 2015.
Jeffrey E. Duven,
Manager, Transport Airplane Directorate, Aircraft Certification Service.

[FR Doc. 2015-06782 Filed 3-26-15; 8:45 am]

BILLING CODE 4910-13-P